COMMITTEE FOR PURCHASE FROM PEOPLE WHO ARE BLIND OR SEVERELY DISABLED

Procurement List; Proposed Addition

AGENCY: Committee for Purchase From People Who Are Blind or Severely Disabled.

ACTION: Proposed Addition to the Procurement List.

SUMMARY: The Committee is proposing to add a service to the Procurement List that will be provided by a nonprofit agency employing persons who are blind or have other severe disabilities.

Comments Must Be Received On Or Before: 9/22/2014.

ADDRESSES: Committee for Purchase From People Who Are Blind or Severely Disabled, 1401 S. Clark Street, Suite 10800, Arlington, Virginia 22202-4149.

FOR FURTHER INFORMATION OR TO SUBMIT COMMENTS CONTACT: Barry S. Lineback, Telephone: (703) 603-7740, Fax: (703) 603-0655, or email CMTEFedReg@AbilityOne.gov.

SUPPLEMENTARY INFORMATION:

This notice is published pursuant to 41 U.S.C. 8503(a)(2) and 41 CFR 51-2.3. Its purpose is to provide interested persons an opportunity to submit comments on the proposed action.

Addition

If the Committee approves the proposed addition, the entities of the Federal Government identified in this notice will be required to procure the service listed below from the nonprofit agency employing persons who are blind or have other severe disabilities.

The following service is proposed for addition to the Procurement List for production by the nonprofit agency listed:

Service

Service Type/Locations: Custodial and Grounds Maintenance Service, GSA, PBS, Region 2, Federico Degetau Federal Building and Clemente Ruiz Nazario US Courthouse 150 Carlos Chardon Street, Hato Rey, PR, GSA, PBS, Region 2, GSA Center, Insular Road No. 28, Guaynabo, PR

NPA: The Corporate Source, Inc., New York, NY.

Contracting Activity: GSA/Public Buildings Service, Hato Rey, PR.

Barry S. Lineback,
Director, Business Operations.

[FR Doc. 2014-19940 Filed 8-21-14; 8:45 am]

BILLING CODE 6353-01-P